DEPARTMENT OF COMMERCE

National Oceanic and Atmospheric Administration

Agency Information Collection Activities; Submission to the Office of Management and Budget (OMB) for Review and Approval; Comment Request; Report of Whaling Operations

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before September 16, 2024.

ADDRESSES: Interested persons are invited to submit written comments to Adrienne Thomas, NOAA PRA Officer, at NOAA.PRA@noaa.gov. Please reference OMB Control Number 0648-0311 in the subject line of your comments. All comments received are part of the public record and will generally be posted on https://www.regulations.gov without change. Do not submit Confidential Business Information or otherwise sensitive or protected information.

FOR FURTHER INFORMATION CONTACT: Requests for additional information or specific questions related to collection activities should be directed to Mi Ae Kim, Fishery Management Specialist, National Marine Fisheries Service (NMFS), Office of International Affairs, Trade, and Commerce, 1315 East-West Hwy, Silver Spring, MD, 20910, 301-427-8365 or mi.ae.kim@noaa.gov.

SUPPLEMENTARY INFORMATION:

I. Abstract

This request is for extension of a current information collection. Native Americans may conduct certain aboriginal subsistence whaling under the Whaling Convention Act in accordance with the provisions of the International Whaling Commission (IWC). In order to respond to obligations under the International Convention for the Regulation of Whaling, the IWC, and the Whaling Convention Act, whaling captains participating in these operations must submit certain information to the relevant Native American whaling organization about strikes on and catch of whales. Anyone retrieving a dead whale is also required to report. Captains must place a distinctive permanent identification mark on any harpoon, lance, or explosive dart used, as well as provide information on the mark and self-identification information. The relevant Native American whaling organization receives the reports, compiles them, and submits the information to the National Marine Fisheries Service, Office of International Affairs, Trade, and Commerce. The information is used to monitor the hunt and to ensure that quotas are not exceeded. The information is also provided to the IWC, which uses it to monitor compliance with its requirements.

II. Method of Collection

Reports may be made by phone, fax, email, or in writing. Information on equipment marks must be made in writing.

III. Data

OMB Control Number: 0648-0311.

Form Number(s): None.

Type of Review: Regular submission (extension of a current information collection).

Affected Public: Individuals or households; State, Local, or Tribal government.

Estimated Number of Respondents: 166 (165 whaling captains, one Native American whaling organization).

Estimated Time per Response: 30 minutes for reports on whales struck or on recovery of dead whales, including providing the information to the relevant Native American whaling organization; 5 minutes for the relevant Native American whaling organization to type in each report; and 5 hours for the relevant Native American whaling organization to consolidate and submit reports.

Estimated Total Annual Burden Hours: 50.

Estimated Total Annual Cost to Public: 115.

Respondent's Obligation: Mandatory.

Legal Authority: Whaling Convention Act (16 U.S.C. 916-9161).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection request. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-15686 Filed 7-16-24; 8:45 am]

BILLING CODE 3510-22-P